DEPARTMENT OF COMMERCE

Foreign-Trade Zones Board

[B-45-2012]

Foreign-Trade Zone 7—Mayaguez, PR; Notification of Proposed Production Activity; Baxter Healthcare of Puerto Rico; (Pharmaceutical and Nutritional Intravenous Bags and Administration Sets); Aibonito and Jayuya, PR

The Puerto Rico Industrial Development Company, grantee of FTZ 7, submitted a notification of proposed production activity on behalf of Baxter Healthcare of Puerto Rico (Baxter), at two sites within FTZ 7, located in Aibonito and Jayuya, Puerto Rico. The facilities are used for the manufacture of pharmaceutical and nutritional intravenous (I.V.) bags, I.V. administration sets and their components.

Production under FTZ procedures could exempt Baxter from customs duty payments on the foreign status components used in export production. On its domestic sales, Baxter would be able to choose the duty rates during customs entry procedures that apply to the filled I.V. products and administration sets) (duty-free) for the foreign status inputs noted below. Customs duties also could possibly be deferred or reduced on foreign status production equipment.

Components and materials sourced from abroad include: Foil pouches, ABS resin, L-tryptophan, glutamic acid, N-Acetyl-L-Tyrosine and L-Lysine-Acetate (duty rate range: 3%-6.5%).

Public comment is invited from interested parties. Submissions shall be addressed to the Board's Executive Secretary at the address below. The closing period for their receipt is July 30, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Diane Finver at Diane.Finver@trade.gov or (202) 482-1367.

Elizabeth Whiteman,
Acting Executive Secretary.

[FR Doc. 2012-15088 Filed 6-19-12; 8:45 am]

BILLING CODE P